DEPARTMENT OF AGRICULTURE

Forest Service

Central Idaho Resource Advisory Committee

AGENCY: Forest Service, Agriculture (USDA).

ACTION: Notice of meetings.

SUMMARY: The Central Idaho Resource Advisory Committee (RAC) will hold a public meeting according to the details shown below. The committee is authorized under the Secure Rural Schools and Community Self-Determination Act (the Act) and operates in compliance with the Federal Advisory Committee Act. The purpose of the committee is to improve collaborative relationships and to provide advice and recommendations to the Forest Service concerning projects and funding consistent with Title II of the Act. General information and meeting details can be found at the following website: https://www.fs.usda.gov/main/scnf/workingtogether/advisorycommittees.

DATES: The meeting will be held on March 23, 2023, beginning at 9 a.m., Mountain Daylight Time.

Oral Comments: Individuals wishing to make an oral statement should request in writing by March 2, 2023, to be scheduled on the agenda.

Written Comments: Anyone who would like to bring related matters to the attention of the committee may file written statements with the committee staff before the meeting or by April 9, 2023. Written comments and requests for time for oral comments must be sent to Amy Baumer, RAC Coordinator, 1206 S Challis Street, Salmon, ID 83467 or by email to amy.baumer@usda.gov.

All RAC meetings are subject to cancellation. For status of the meeting prior to attendance, please contact the person listed under FOR FURTHER INFORMATION CONTACT.

ADDRESSES: This meeting is open to the public and will be held at the Challis Community Events Center, located at 411 Clinic Road, Challis, Idaho 83226. The public may also join virtually via telephone and/or video conference. Virtual meeting participation details can be found on the website listed under SUMMARY or by contacting the person listed under For Further Information Contact.

Written comments may be submitted as described under SUPPLEMENTARY INFORMATION. All comments, including names and addresses when provided, are placed in the record and are available for public inspection and copying. The public may inspect comments received upon request.

FOR FURTHER INFORMATION CONTACT: Amy Baumer, Central Idaho RAC Coordinator, by phone at 208-756-5100 or via email at amy.baumer@usda.gov.

Individuals who use telecommunication devices for the deaf and hard of hearing (TDD) may call the Federal Information Relay Service (FIRS) at 1-800-877-8339, 24 hours a day, every day of the year, including holidays.

SUPPLEMENTARY INFORMATION: The purpose of the meeting is to:

1. Hear from Title II project proponants and discuss Title II proposals, and

2. Make funding recommendations on Title II projects.

The meeting is open to the public. The agenda will include time for people to make oral statements of three minutes or less. Individuals wishing to make an oral statement should request in writing by March 2, 2023, to be scheduled on the agenda. Anyone who would like to bring related matters to the attention of the committee may file written statements with the committee staff before the meeting or by April 9, 2023. Written comments and requests for time for oral comments must be sent to Amy Baumer, RAC Coordinator, 1206 S Challis Street, Salmon, ID 83467 or by email to amy.baumer@usda.gov. Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and persons with disabilities. USDA is an equal opportunity provider, employer, and lender.

Dated: February 28, 2023
Cikena Reid,
USDA Committee Management Officer.

[FR Doc. 2023-04599 Filed 3-6-23; 8:45 am]

BILLING CODE 3411-15-P